DEPARTMENT OF HEALTH AND HUMAN SERVICES

Centers for Disease Control and Prevention

[30Day-18-1078]

Agency Forms Undergoing Paperwork Reduction Act Review

In accordance with the Paperwork Reduction Act of 1995, the Centers for Disease Control and Prevention (CDC) has submitted the information collection request titled Public Health Associate Program (PHAP) Alumni Assessment to the Office of Management and Budget (OMB) for review and approval. CDC previously published a “Proposed Data Collection Submitted for Public Comment and Recommendations” notice on October 10, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Public Health Associate Program (PHAP) Alumni Assessment (OMB Control No. 0920-1078, Exp. 08/31/2018)—Revision—Office for State, Tribal Local and Territorial Support (OSTLTS), Centers for Disease Control and Prevention (CDC).

Background and Brief Description

The Centers for Disease Control and Prevention (CDC) works to protect America from health, safety and security threats, both foreign and in the U.S. CDC strives to fulfill this mission, in part, through a competent and capable public health workforce. One mechanism to developing the public health workforce is through training programs like the Public Health Associate Program (PHAP).

The mission of PHAP is to train and provide experiential learning to early career professionals who contribute to the public health workforce. PHAP targets recent graduates with bachelors or masters degrees who are beginning a career in public health. Each year, a new cohort of up to 200 associates is enrolled in the program. Associates are CDC employees who complete two-year assignments in a host site (i.e., a state, tribal, local, or territorial health department or non-profit organization). Host sites design their associates' assignments to meet their agency's unique needs while also providing on-the-job experience that prepare associates for future careers in public health. At host sites, associates are mentored by members of the public health workforce (referred to as “host site supervisors”). PHAP's goal is that alumni will seek employment within the public health system (i.e., federal, state, tribal, local, or territorial health agencies, or non-governmental organizations), focusing on public health, population health, or health care.

Efforts to systematically evaluate PHAP began in 2014 and continue to date. Evaluation priorities focus on continuously learning about program processes and activities to improve the program's quality and documenting program outcomes to demonstrate impact and inform decision making about future program direction.

The purpose of this ICR is to collect information from two key stakeholder groups (host site supervisors and alumni) via two distinct surveys. The information collected will enable CDC to; a) learn about program processes and activities to improve the program's quality, and b) document program outcomes to demonstrate impact and inform decision making about future program direction. The results of these surveys may be published in peer reviewed journals and/or in non-scientific publications such as practice reports and/or fact sheets. The revision includes the following adjustments: Expansion from one data collection instrument to two. Specifically, rather than just collect information from PHAP Alumni to learn of career progression and achievements post-PHAP, the revised ICR will also include the collection of information from PHAP host site supervisors, another important stakeholder group. Data collected from this group of respondents will assess host site supervisors' perspectives of PHAP's value to their agencies and gather suggestions for improvement to ensure the program is most effective in facilitating a meaningful host site experience (and overall PHAP experience) for all involved. Together, data from these two stakeholder groups will inform improvements to PHAP and document evidence of quality and value in a more comprehensive way. The second adjustment to this ICR is a name change from “Public Health Associate Program (PHAP) Alumni Assessment” to “Public Health Associate Program (PHAP): Assessment of Quality and Value.”

The respondent universe is comprised of PHAP host site supervisors and PHAP alumni. Both surveys will be administered electronically; a link to the survey websites will be provided in the email invitation. The PHAP Host Site Supervisor survey will be deployed every year to all active PHAP host site supervisors. The total estimated burden is 20 minutes per respondent per survey.

The PHAP Alumni Survey will be administered at three different time points (1 year post-graduation, 3 years post-graduation, and 5 years post-graduation) to PHAP alumni. Assessment questions will remain consistent at each administration (i.e., 1 year, 3 years, or 5 years post-PHAP graduation). The language, however, will be updated for each survey administration to reflect the appropriate time period. The total estimated burden is 8 minutes per respondent per survey. The total annualized estimated burden is 213 hours. There are no costs to respondents except their time.

Estimated Annualized Burden Hours
Type of respondents | Form name | Number of respondents | Number of responses per respondent | Average burden per response (in hours)
PHAP Host Site Supervisors | PHAP Host Site Supervisor Survey | 400 | 1 | 20/60
PHAP Alumni | PHAP Alumni Survey | 600 | 1 | 8/60

Leroy A. Richardson,
Chief, Information Collection Review Office, Office of Scientific Integrity, Office of the Associate Director for Science, Office of the Director, Centers for Disease Control and Prevention.

[FR Doc. 2018-01584 Filed 1-26-18; 8:45 am]

BILLING CODE 4163-18-P